NATIONAL ARCHIVES AND RECORDS ADMINISTRATION

Privacy Act of 1974, as Amended; System of Records Notices

AGENCY: National Archives and Records Administration [NARA].

ACTION: Notice of the establishment of new privacy system of record, NARA 40.

SUMMARY: The National Archives and Records Administration (NARA) proposes to add a system of records to its existing inventory of systems subject to the Privacy Act of 1974, as amended (5 U.S.C. 552(a)) (“Privacy Act”). In this notice, NARA publishes NARA 40, the Office of Government Information Services (OGIS) Case Files.

DATES: This new system of records, NARA 40, will become effective September 2, 2010 without further notice unless comments are received that result in further revision. NARA will publish a new notice if the effective date is delayed to review comments or if changes are made based on comments received. To be assured of consideration, comments should be received on or before the date above.

ADDRESSES: You may submit comments, identified by SORN number NARA 40, by one of the following methods:

• Federal e-Rulemaking Portal: http://www.regulations.gov. Follow the instructions for submitting comments.

• Fax: 301-837-0293.

• Mail: Privacy Act Officer, Office of General Counsel (NGC), Room 3110, National Archives and Records Administration, 8601 Adelphi Road, College Park, MD 20740-6001.

FOR FURTHER INFORMATION CONTACT: Jay Olin, Deputy FOIA Officer, Office of General Counsel (NGC), Room 3110, National Archives and Records Administration, 8601 Adelphi Road, College Park, MD 20740-6001. Telephone: (301) 837-2025. Fax: 301-837-0293.

SUPPLEMENTARY INFORMATION: The OPEN Government Act of 2007 amended the Freedom of Information Act (5 U.S.C. Section 552) to create an Office of Government Information Services (OGIS) within the National Archives and Records Administration (NARA). OGIS's mission is to review policies and procedures of administrative agencies under the Freedom of Information Act (FOIA) and their compliance with FOIA by agencies; offer mediation services to resolve disputes between persons making FOIA requests and agencies (nonexclusive alternative to litigation); and serve as ombudsman, i.e. solicit and receive comments and questions from Federal agencies and the public regarding the administration of FOIA to improve FOIA processes and facilitate communication between agencies and FOIA requesters.

The notice for this system of records states the name and the location of the record system, the authority for and manner of its operation, the categories of individuals that it covers, the types of records that it contains, the sources of information in the records, and the proposed “routine uses” of the system of records. The notice also includes the business address of the NARA official who will inform interested persons of the procedures whereby they may gain access to, and correct, records pertaining to themselves.

One of the purposes of the Privacy Act, as stated in section 2(b)(4) of the Act, is to provide certain safeguards for an individual against an invasion of personal privacy by requiring Federal agencies to disseminate any record of identifiable personal information in a manner that assures that such action is for a necessary and lawful purpose, that the information is current and accurate for its intended use, and the adequate safeguards are provided to prevent misuse of such information. NARA intends to follow these principles in transferring information to another agency or individual as a “routine use,” including assurance that the information is relevant for the purposes for which it is transferred.

Dated: July 28, 2010.
David S. Ferriero,
Archivist of the United States.

NARA Privacy Act Systems: NARA 40

SYSTEM NAME:

The Office of Government Information Services (OGIS) Case Files.

SYSTEM LOCATION:

The OGIS case files are maintained in the National Archives and Records Administration, Office of Government Information Services, Room 2510, 8601 Adelphi Road, College Park, MD 20740.

CATEGORIES OF INDIVIDUALS COVERED BY THE SYSTEM:

Individuals covered by this system include persons who request OGIS assistance in connection with the filing of a Freedom of Information (FOIA) and/or Privacy Act request or appeal to any Federal department or agency.

CATEGORIES OF RECORDS IN THE SYSTEM:

The OGIS case files include: correspondence, case notes, FOIA and Privacy Act request letters, appeal letters, agency replies to original requests and appeals, supporting documents, research, and other administrative forms used in the process. These files may also contain information or determinations furnished by, and correspondence with, other Federal agencies. OGIS case files may contain some or all of the following information about an individual: name, address, telephone number, e-mail address, Federal inmate register number, research interests, other information provided by the requester and by other agencies, and copies of documents furnished to the requester.

AUTHORITY FOR MAINTENANCE OF THE SYSTEM:

5 U.S.C. 552a(a)(3), as amended.

ROUTINE USES OF RECORDS MAINTAINED IN THE SYSTEM, INCLUDING CATEGORIES OF USERS AND THE PURPOSES OF SUCH USES:

OGIS maintains case files on individuals to record: requests for assistance, actions taken on cases; and, the status of cases in logs and databases. In addition, OGIS also serves as the FOIA Ombudsman in connection with its mission to review agency compliance with the FOIA. In this role, OGIS will capture and address systematic problems in FOIA administration as such individual case problems may serve as one of the bases to establish current systematic trends in the process. For this latter function, OGIS will remove personal information and use the remaining information collected for statistical purposes.

OGIS may disclose information in case files to agencies that have an equity in the subject FOIA and/or Privacy Act request and/or appeal in order for those agencies to participate in informal or formal mediation efforts. The routine use statements A, E, F, G and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in OGIS case files may be retrieved by one or more of the following data elements: the name of the individual and an alphanumeric case file number.

SAFEGUARDS:

OGIS case files are at all times maintained in buildings with security guards or secured doors, and all entrances are monitored by electronic surveillance equipment. During business hours, paper records are accessible only by authorized NARA personnel. Electronic records are accessible via passwords from terminals located in attended offices. After business hours, or when OGIS personnel are not present in the offices, the OGIS offices are secured in addition to building security.

RETENTION AND DISPOSAL:

OGIS case files are temporary records and are destroyed in accordance with the disposition instructions in the NARA records schedule contained in FILES 203, the NARA Files Maintenance and Records Disposition Manual. Individuals may request a copy of the disposition instructions from the NARA Privacy Act Officer.

SYSTEM MANAGER(S) AND ADDRESS:

For OGIS case files, the system manager is the Director of the OGIS, Room 2510, 8601 Adelphi Road, College Park, MD 20740.

NOTIFICATION PROCEDURE:

Individuals interested in inquiring about their records should notify the NARA Privacy Act Officer, whose address is listed above and in Appendix B to the Privacy Act of 1974 Republication of Systems of Records Notice (72 FR 56570, October 3, 2007).

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in OGIS case files is obtained from persons who request assistance in connection with the submission of a FOIA and/or Privacy Act request or appeal to a Federal agency, and from agencies that have acted on the request or appeal.

[FR Doc. 2010-19130 Filed 8-2-10; 8:45 am]

BILLING CODE 7515-01-P